FEDERAL COMMUNICATIONS COMMISSION

47 CFR Part 73

[MB Docket No. 21-155; RM-11900; DA 22-660; FR ID 93699]

Television Broadcasting Services Medford, Oregon.

AGENCY: Federal Communications Commission.

ACTION: Final rule.

SUMMARY: On April 16, 2021, the Media Bureau, Video Division (Bureau) issued a Notice of Proposed Rulemaking (NPRM) in response to a petition for rulemaking filed by KTVL Licensee, LLC (the Petitioner), the licensee of KTVL(TV), channel 10, Medford, Oregon, requesting the substitution of channel 16 for channel 10 at Medford in the Table of Allotments. The Bureau is now amending FCC regulations to make this change.

DATES: Effective July 5, 2022.

FOR FURTHER INFORMATION CONTACT: Joyce Bernstein, Media Bureau, at (202) 418-1647 or Joyce.Bernstein@fcc.gov.

SUPPLEMENTARY INFORMATION: The proposed rule was published at 86 FR 25979 on May 12, 2021. The Petitioner filed comments in support of the petition reaffirming its commitment to apply for channel 16. theDove Media, Inc. (theDove), the licensee of low power television station KDSO-LP, channel 16, Medford, Oregon, filed comments in opposition to the rulemaking petition and a counterproposal. On June 22, 2022, the Video Division of the Bureau approved a Joint Request for Approval of Settlement Agreement whereby theDove requested dismissal of its Opposition with prejudice, and the Petitioner agreed to reimburse theDove in an amount not to exceed $23,420 as reimbursement for costs related to theDove's acquisition and construction of a displacement facility on channel 26 at Medford. The parties also agreed that KTVL would not begin operations on channel 16 until KDSO-LP commenced operations on channel 26. The Video Division approved the Joint Request for Approval of Settlement Agreement and dismissed theDove's opposition by letter dated June 22, 2022.

The Petitioner states that the Commission has recognized that VHF channels have certain propagation characteristics which may cause reception issues for some viewers, that the reception of VHF signals require larger antennas relative to UHF channels, and that studies suggest a large variability in the performance of indoor antennas, with most performing poorly or not so well receiving VHF channels, compared to UHF channels. Petitioner further states that the Station has received numerous complaints from viewers unable to receive the Station's over-the-air signal, despite being able to receive signals from other local stations. In addition, the Petitioner states while the proposed channel 16 noise limited contour does not completely encompass the channel 10 noise limited contour, KTVL is a CBS affiliate and there are two other CBS affiliated stations that serve all but 9,355 persons in the noise limited contour loss area.¹ The Petitioner also submitted an analysis, using the Commission's TVStudy software analysis program, demonstrating that after taking into account service provided by other CBS stations, all of the population located within KTVL's channel 10 noise limited contour will continue to receive CBS service, resulting in no loss of network service.

This is a synopsis of the Commission's Report and Order, MB Docket No. 21-155; RM-11900; DA 22-660, adopted June 22, 2022, and released June 22, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Oregon, by revising the entry for Medford to read as follows:

§ 73.622 Digital television table of allotments.

* * * * *

(j) * * *

Community | Channel No.
* * * * *
Oregon
* * * * *
Medford | 5, *8, 12, 16, 26.
* * * * *

[FR Doc. 2022-14201 Filed 7-1-22; 8:45 am]

BILLING CODE 6712-01-P